DEPARTMENT OF ENERGY

Federal Energy Regulatory Commission

[Project Nos. 2712-074; 2710-057]

Black Bear Hydro Partners, LLC, Maine; Notice of Availability of Environmental Assessment

In accordance with the National Environmental Policy Act of 1969 and the Federal Energy Regulatory Commission's (Commission or FERC's) regulations, 18 Code of Federal Regulations (CFR) part 380 (Order No. 486, 52 Federal Register [FR] 47897), Commission staff has reviewed the application for the amendment of licenses for the Stillwater Hydroelectric Project (FERC Project No. 2712-074) and Orono Hydroelectric Project (FERC Project No. 2710-057), located on the Stillwater Branch of the Penobscot River in Penobscot County, near the communities of Old Town and Orono, respectively. The projects do not occupy any federal lands.

Staff prepared an Environmental Assessment (EA), which analyzes the potential environmental effects of the proposed modifications to the projects and the addition of new generating capacity, and concludes that authorizing amendments to the projects, with appropriate environmental protective measures, would not constitute a major federal action that would significantly affect the quality of the human environment.

A copy of the EA is available for review at the Commission in the Public Reference Room 2-A of the Commission's offices at 888 First Street NE., Washington, DC 20426. The EA also may be viewed on the Commission's Internet Web site at (www.ferc.gov) using the “eLibrary” link. Enter the docket number excluding the last three digits in the docket number field to access the document. Additional information about the project is available from the Commission's Office of External Affairs, at (202) 502-6088, or on the Commission's Web site using the eLibrary link. For assistance with eLibrary, contact FERCOnlineSupport@ferc.gov or toll-free at (866) 208-3676; for TTY contact (202) 502-8659.

You may also register online at www.ferc.gov/docs-filing/esubscription.asp to be notified via email of new filings and issuances related to this or other pending projects. For assistance, contact FERC Online Support.

Any comments should be filed within 30 days from the date of this notice. Comments may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

For further information, contact Rachel Price by telephone at 202-502-8907 or by email at Rachel.Price@ferc.gov.

Dated: July 9, 2012.
Kimberly D. Bose,
Secretary.

[FR Doc. 2012-17322 Filed 7-16-12; 8:45 am]

BILLING CODE 6717-01-P